DEPARTMENT OF LABOR

Employment and Training Administration

Notice of Determinations Regarding Eligibility To Apply for Worker Adjustment Assistance and NAFTA Transitional Adjustment Assistance

In accordance with section 233 of the Trade Act of 1974, as amended, the Department of Labor herein presents summaries of determinations regarding eligibility to apply for trade adjustment assistance for workers (TA-W) issued during the period of March, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,424; Georgia Pacific, Chip and Saw Plant, Baileyville, ME

TA-W-38,338; Cooper Energy Services, Mt. Vernon, OH

TA-W-38,383; Burruss Co., Galax, VA

TA-W-38,566; Fechheimer Brothers Co., SOL Frank Div., San Antonio, TX

TA-W-38,553; Ingersoll Milling Machine Co., Rockford, IL

TA-W-38,593; Innovative Home Products, Birmingham, MI

TA-W-38,601; Arka Knitwear, Inc., Ridgewood, NY

In the following cases, the investigation revealed that the criteria for eligibility have not been met for the reasons specified.

The workers firm does not produce an article as required for certification under section 222 of the Trade Act of 1974.

TA-W-38,636; Cookson Pigments, Inc., Newark, NJ

TA-W-38,475; Ames True Temper, Inc., Davisville Distribution Center, Davisville, WV

TA-W-38,746; Danieli Corp., Cranberry Township, PA Including Danieli Wean United, Danieli Automation, Danieli Morgardshammal and Danieli Centro Met.

TA-W-38,527; Price Pfister, Pacoima, CA

TA-W-38,773; Day and Zimmermann, Inc., Parsons, KS

TA-W-38,600; H.L. Miller and Son, Dallas, TX

Increased imports did not contribute importantly to worker separations at the firm.

TA-W-38,874; Valleo Climate Control, Arcola, IL

TA-W-38,141; Lilly Industries, Paulsboro, NJ

TA-W-38,709; Flint Ink Corp., West St. Paul, MN

TA-W-38,570; Commerce Plastics, Inc., Commerce, GA

TA-W-38,604; Lawson Mardon, Clifton, NJ

TA-W-38,605; Komag, Eugene, OR

TA-W-38,613; Budge Industries, Inc., Telford, PA

TA-W-38,401; Calibrated Charts Corp., Batavia, NY

TA-W-38,649; Mother Parkers Tea and Coffee Co. USA Ltd., Palesades Park, NJ

TA-W-38,487; Stanley Access Technologies, Farmington, CT

TA-W-38,787; Medley Company Cedar, Inc., Pierce, ID

TA-W-38,474; Honeywell Aerospace, Teterboro, NJ

TA-W-38,680; Johns Manville Corp., Vienna, WV

TA-W-38,626; 3 Day Blinds, Inc., Anaheim, CA

TA-W-38,717 & A; International Paper, Costigan Mill, Milford, ME, Passadumkeag Mill, Passadumkeag, ME

TA-W-38,743; Collis, Inc., Elizabethtown, KY

Affirmative Determinations for Worker Adjustment Assistance

The following certifications have been issued; the date following the company name and location of each determination references the impact date for all workers of such determination.

TA-W-38,676; West Ark/Dunbrooke Industries, Inc., Versailles, MO: February 1, 2000.

TA-W-38,765; Burlington Industries, Inc., Burlington House Floor Accents, Monticello, AR: February 15, 2000.

TA-W-38,569; O/Z-Gedney Co., Div. of EGS Electrical Group, Terryville, CT: January 5, 2000.

TA-W-38,732; Artech Printing, Inc., Sturtevant, WI: February 9, 2000.

TA-W-38,625; Hays Lemmerz International, Automotive Brake, Components, Homer, MI: January 19, 2000.

TA-W-38,699; General Electric, Industrial Systems Div., Morrison, IL: February 2, 2000.

TA-W-38,669; Matsushita Compressor Corp. of Ameica, Mooresville, NC: January 29, 2000.

TA-W-38,616; Texprint (GA), Inc., Macon, GA: January 19, 2000.

TA-W-38,323; Winpak Films, Senoia, GA: October 27, 1999.

TA-W-38,716; Toshiba America Information System, Inc., Irvine, CA: February 9, 2000.

TA-W-38,435; Blackfeet Writing Instruments, Inc., Browning, MT: November 21, 1999.

TA-W-38,836; Lionel LLC, Chesterfield, MI: February 22, 2000.

TA-W-38,614; Production Stamping, Div. of Talon Automotive Group, Oxford, MI: January 17, 2000.

TA-W-38,428; U.S. Tape and Sticky Products, Gloucester, MA: November 30, 1999.

TA-W-38,233; Konica Graphic Imaging International, Inc., Glen Cove, NY: October 10, 1999.

TA-W-38,640; Magnetic Head Technologies, Michigan Magnetics, St. Croix Falls, WI: January 18, 2000.

TA-W-38,735; Motorola Energy Systems Group, Harvard, IL: January 23, 2000.

TA-W-38,652; National Electrical Carbon Products, Inc., The Morgan Crucible Co, Plc, East Stroudsburg, PA: January 23, 2000.

TA-W-38,465; Cookson Semiconductor Packaging Materials, Div. of Alpha-Fry Technologies, Warwick, RI: December 8, 1999.

TA-W-38,762; Pridecraft Enterprises, Inc., Enterprise, AL: February 12, 2000.

TA-W-38,609; Gates Rubber Co., Global Fluid Power Div., Gates Corp., Charlestown, MO: January 10, 2000.

TA-W-38,305; Stora Enso Consolidated Papers, Inc., d/b/a Stora Enso North America Administrative Offices, Wisconsin Rapids, WI Including the Following Locations: A; Biron Mill, formerly known as Biron Div., Wisconsin Rapids, WI, B; Kimberly Mill, formerly known as Inter Lake Papers Div., Kimberly, WI, C; Wisconsin Rapids Pulp Mill, formerly known as Kraft Div., Wisconsin Rapids, WI, D; Duluth Paper Mill and Duluth Recycled Pulp Mill, formerly known as Lake Superior Paper Industries, Duluth, MN, F; Wisconsin Rapids Paperboard, formerly known as Paperboard Products Div., Wisconsin Rapids, WI, G; Research, Research and Development, Wisconsin Rapids, WI, H; Stevens Point Mill, formerly known as Stevens Point Div., Stevens Point, WI, I; Wisconsin Rapids Paper Mill, formerly known as Wisconsin Rapids Div., & Converting Div., Wisconsin Rapids, WI, J; Whiting Mill, Wisconsin River Div., Stevens Point, WI; October 31, 1999.

TA-W-38,305E; Niagara Division, Niagara, WI: All workers of the Niagara Division, Niagara, WI are denied eligibility to apply for adjustment assistance because workers are eligible under TA-W-36,240 which expires on October 28, 2001.

TA-W-38,467; MDF Moulding and Millwork Co., Las Vegas, NM: December 6, 1999.

TA-W-38,491 & A; Jefferson Apparel, Jefferson, NC and Maid Bess Corp., Salem, VA: December 18, 1999.

TA-W-38,715; Vilter Manufacturing Corp., Vessels Dept, Cudahy, WI: February 9, 2000.

TA-W-38,580; Fox Distribution, Fox Companies, Laurel, MT: January 11, 2000.

TA-W-38,282; Weeks Textile Co., Quitman, GA: October 20, 1999.

TA-W-38,777; Steele Apparel, Inc., Kilmichael, MS: February 9, 2000.

TA-W-38,781; Clahoun Apparel, Inc., Calhoun City, MS: February 12, 2000.

TA-W-38,429; Paper Calmenson & Co., St. Paul, MN: December 4, 1999.

TA-W-38,558; Clark Metal Products, Inc., Marion, OH: December 19, 1999.

TA-W-38,505; TDK Electronics Corp., Irving, CA: December 14, 1999.

TA-W-38,638; Honeywell International, Specialty Chemicals Div., Ironton, OH: January 18, 2000.

TA-W-38,612; Owens and Hurst Lumber Co., Inc., Eureka, MT: January 17, 2000.

TA-W-38,520; Auburn Steel Co., Lemont Div., Lemont, IL: January 9, 2000.

TA-W-38,591; Horix Manufacturing Co., McKees Rocks, PA: January 16, 2000.

TA-W-38,477; Gilison Knitwear, Hicksville, NY: December 12, 1999.

TA-W-38,581; American Standard, Inc., Trenton, NJ: January 10, 2000.

TA-W-38,468; J & L Structural, Inc., Aliquippa, PA: December 8, 1999.

TA-W-38,546; Tower Electronics, Inc., Minneapolis, MN: December 21, 1999.

TA-W-38,586; OGB Manufacturing Distribution Co., Oshkosh, B'Gosh, Inc., Liberty, KY: January 12, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of March, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04466; Clevenger Sox, Inc., Black Mountain, NC

NAFTA-TAA-04454; Innovative Home Products, Inc., Birmingham, MI

NAFTA-TAA-04448; NACCO Materials Handling Group, Danville, IL

NAFTA-TAA-04461; Arka Knitwear, Inc., Ridgewood, NY

NAFTA-TAA-04584 & A; International Paper, Costigan Mill, Milford, ME and Passadumkeag Mill, Passadumkeag, ME

NAFTA-TAA-04364; New Venture Gear, Inc., New Process Gear Div., East Syracuse, NY

NAFTA-TAA-04507; Magnetic Head Technologies—Michigan Magnetics, St. Croix Falls, WI

NAFTA-TAA-04501; Louisiana Pacific Corp., Oroville, CA

NAFTA-TAA-04432; Georgia Pacific Corp., G-P Gypsum West Plant, Grand Rapids, MI

NAFTA-TAA-04441; Georgia Pacific, Chip and Saw Plant, Baileyville, ME

NAFTA-TAA-04473; Ingersoll Milling Machine Co., Rockford, IL

The investigation revealed that the criteria for eligibility have not been met for the reasons specified.

The investigation revealed that workers of the subject firm did not produce an article within the meaning of section 250(a) of the Trade Act, as amended.

NAFTA-TAA-04438; Price Pfister, Pacoima, CA

NAFTA-TAA-04516; Pacific North Equipment Co., Fairbanks Branch, Fairbanks, AK

Affirmative Determinations NAFTA-TAA

NAFTA-TAA-04531; Xerox Corp., Webster, NY: January 30, 2000.

NAFTA-TAA-04605; Ropak Northwest, Inc., A Div. of Ropak Corp., Kent, WA: February 21, 2000.

NAFTA-TAA-04627; Samsonite Corp., Denver Manufacturing Plant, Denver, CO: March 8, 2000.

NAFTA-TAA-04555; Brown Wooten Mills, Inc., Finishing Department, Mount Airy, NC: February 12, 2000.

NAFTA-TAA-04449; Fox Distributions, Fox Companies, Laurel, MT: January 11, 2000.

NAFTA-TAA-04489; 3 Day Blinds, Inc., Anaheim, CA: January 19, 2000.

NAFTA-TAA-04619; Thomas and Betts Corp., Dark To Light Div., Pembroke, MA: February 22, 2000.

NAFTA-TAA-04403; Gynecare, Menlo Park, CA: December 21, 1999.

NAFTA-TAA-04539 & A; Sony Music, Inc., Sony Disc Manufacturing, Carrollton, GA: January 30, 2000; All workers engaged in the production of audio cassette shells (CD's) and audio cassette jewel boxes who became totally or partially separated from employment on or after January 30, 2000. All workers engaged in employment related to the production of audio cassette recording tape are denied.

NAFTA-TAA-04549; Matsushita Battery Industrial Corp., of America, Storage Battery Div., Columbus, GA: January 13, 2000.

NAFTA-TAA-04395; U.S. Tape and Sticky Products, Gloucester, MA: December 12, 1999.

NAFTA-TAA-04505; National Electrical Carbon Products, Inc., The Morgan Crucible Co. Plc, East Stroudsburg, PA: January 23, 2000.

NAFTA-TAA-04589; Puget Plastics Corp., Tualatin, OR: February 14, 2000.

NAFTA-TAA-04568; Ansell Healthcare, Ansell Golden Needles, Wilkesboro, NC: February 19, 2000.

NAFTA-TAA-04513; Georgia-Pacific Corp., Kalamazoo, MI: January 19, 2000.

NAFTA-TAA-04497; Seco Manufacturing Co., Inc., Soft Goods Department, Redding, CA: January 30, 2000.

NAFTA-TAA-04528; Fruit of the Loom, Greenville, MS: January 30, 2000.

NAFTA-TAA-04374; Paper, Calmenson and Co., St. Paul, MN: December 4, 1999.

NAFTA-TAA-04276; Stora Enso Consolidated Papers, Inc., d/b/a Stora Enso North America, Administrative Offices, Wisconsin Rapids, WI Including the Following Locations: A; Biron Mill, formerly known as Biron Div., Wisconsin Rapids, WI, B; Kimberly Mill, formerly known as Inter Lake Papers Div., Kimberly, WI, C; Wisconsin Rapids Pulp Mill, formerly known as Kraft Div., Wisconsin Rapids, WI, D; Duluth Paper Mill and Duluth Recycled Pulp Mill, formerly known as Lake Superior Paper Industries, Duluth, MN, F; Wisconsin Rapids Paperboard, formerly known as Paperboard Products Div., Wisconsin Rapids, WI, G; Research, Research and Development, Wisconsin Rapids, WI, H; Stevens Point Mill, formerly known as Stevens Point Div., Stevens Point, WI, I; Wisconsin Rapids Paper Mill, formerly known as Wisconsin Rapids Div. and Converting Div., Wisconsin Rapids, WI, J; Whiting Mill, Wisconsin River Div., Stevens Point, WI: October 31, 1999.

NAFTA-TAA-04267E; Niagara Division, Niagara, WI: All workers of the Niagara Div., Niagara, WI are denied eligibility to apply of NAFTA-TAA because the workers are eligible under NAFTA-03145 which expires October 28, 2001.

NAFTA-TAA-04394; Prime Cast, Inc., Beloit, WI: December 14, 1999.

NAFTA-TAA-04408; Clark Metal Products Co., Inc., Marion, OH: December 20, 1999.

NAFTA-TAA-04644; Valeo Climate Control, Arcola, IL: March 13, 2000.

NAFTA-TAA-04573; Medley Company Cedar, Inc., Pierce, ID: February 20, 2000.

I hereby certify that the aforementioned determinations were issued during the month of March, 2001. Copies of these determinations are available for inspection in Room C-5311, U.S. Department of Labor, 200 Constitution Avenue, NW., Washington, DC 20210 during normal business hours or will be mailed to persons who write to the above address.

Dated: April 3, 2001.
Edward A. Tomchick,
Director, Division of Trade Adjustment Assistance.

[FR Doc. 01-9281 Filed 4-13-01; 8:45 am]

BILLING CODE 4510-30-M